DEPARTMENT OF HOMELAND SECURITY

Coast Guard

33 CFR Part 165

[Docket No. USCG-2021-0454]

Safety Zone; Fleet Week Maritime Festival, Pier 66, Elliott Bay, Seattle, Washington

AGENCY: Coast Guard, DHS.

ACTION: Notification of non-enforcement of regulation.

SUMMARY: The Coast Guard will not enforce the safety zone for the Fleet Week Maritime Festival on waters adjacent to Pier 66 in Elliott Bay, Seattle, WA in July or August 2021. The Captain of the Port Sector Puget Sound has determined that enforcement of this regulation is not necessary because the event is cancelled.

DATES: The Coast Guard does not plan to enforce regulations in 33 CFR 165.1330 from July 1, 2021 through August 31, 2021.

FOR FURTHER INFORMATION CONTACT: If you have questions about this notification of non-enforcement, call or email Robert A.K. Nakama, U.S. Coast Guard Sector Puget Sound Waterways Management Division; telephone 206-217-6089, email Robert.Nakama@uscg.mil.

SUPPLEMENTARY INFORMATION: The Coast Guard normally enforces the safety zone in 33 CFR 165.1330 for the Fleet Week Maritime Festival on waters adjacent to Pier 66 in Elliott Bay, Seattle, WA. This event is held annually during the parade of ships on the last week of July or first week of August. This year, the event organizers cancelled Fleet Week. Therefore, the Coast Guard does not plan to enforce the safety zone in 33 CFR 165.1330, for July or August 2021.

In addition to this notification of non-enforcement in the Federal Register, if the situation changes and the Captain of the Port Sector Puget Sound (COTP) determines that the regulated area needs to be enforced, the COTP will issue a Broadcast Notice to Mariners and provide actual notice of enforcement to any persons in the regulated area.

Dated: June 21, 2021.
P.M. Hilbert,
Captain, U.S. Coast Guard, Captain of the Port, Sector Puget Sound.

[FR Doc. 2021-13723 Filed 6-30-21; 8:45 am]

BILLING CODE 9110-04-P